DEPARTMENT OF DEFENSE

Department of the Air Force

32 CFR Part 989

Environmental Impact Analysis Process (EIAP); Correction

AGENCY: Department of the Air Force, DoD.

ACTION: Final rule; technical corrections.

SUMMARY: This document contains technical correction amendments to the Air Force EIAP regulation codified at 32 CFR Part 989. The rule relates to the Air Force process for compliance with the National Environmental Policy Act (NEPA) and Executive Order (E.O.) 12114, Environmental Effects Abroad of Major Federal Actions.

DATES: Effective Date: July 9, 2007.

FOR FURTHER INFORMATION CONTACT: Mr. Jack Bush (HQ USAF/A7CI), 1260 Air Force Pentagon, Washington, DC 20330-1260, (703) 604-5264.

SUPPLEMENTARY INFORMATION:

Background

The final rule that is the subject of these amendments integrated environmental analysis and aligned environmental document approval levels with the Air Force decision-making process. It also expanded Air Force environmental participants and responsibilities of the Environmental Planning Function (EPF) and the proponent of an action.

Administrative Procedure Act: The Air Force has determined that the Administrative Procedure Act, 5 U.S.C. 553, does not require notice of proposed rulemaking or an opportunity for public participation in connection with these corrections. In this regard, the Air Force notes that such notice and opportunity for comment is unnecessary because these amendments are related solely to agency organization, procedure and practice, and make technical corrections. Accordingly, the Air Force finds good cause to make these amendments effective immediately upon publication in the Federal Register. 5 U.S.C. 553(b)(B), 553(d)(3).

Need for Amendments

Amendments were needed to clarify the requirements of 32 CFR 989.

List of Subjects in 32 CFR Part 989

Environmental impact statements, Reporting and recordkeeping requirements.

Accordingly, the Department of the Air Force makes the following technical corrections to 32 CFR part 989.

PART 989—ENVIRONMENTAL IMPACT ANALYSIS PROCESS (EIAP)

1. The authority citation for part 989 continues to read as follows:

Authority: 10 U.S.C. 8013.

2. In § 989.3, make the following technical corrections:

a. In paragraph (a)(1), revise “SAF/MIQ” to read “SAF/IEE”;

b. In paragraph (a)(2), revise “SAF/MI” to read “SAF/IE”;

c. In paragraph (a)(4)(ii), revise “AFLS/JAJT” to read “AFLOA/JAJT”;

d. In paragraph (c)(1), revise “Air Force Center for Environmental Excellence” to read “Air Force Center for Engineering and the Environment” and “AFCEE Environmental Conservation and Planning Directorate (AFCEE/EC)” to read “AFCEE Technical Directorate, Built Infrastructure Division (AFCEE/TDB)”;

e. In paragraph (c)(2)(iv), revise “USAF/ILEB” to read “USAF/A7CI”;

f. In paragraph (d)(7), second sentence, revise “USAF/ILEB” to read “USAF/A7CI”;

g. Revise paragraph (f);

h. In paragraph (g)(3), revise “AFLSA/JAJT” to read “AFLOA/JAJT”; and

i. In paragraph (g)(4), revise “AFLSA/JACE” to read “AFLOA/JACE”.

The revision reads as follows:

§ 989.3 Responsibilities.

* * * * *

(f) Environment, Safety, and Occupational Health Council (ESOHC). The ESOHC provides senior leadership involvement and direction at all levels of command in accordance with AFI 90-801, Environment, Safety, and Occupational Health Councils, 25 March 2005.

* * * * *

§ 989.4 [Amended]

3. In § 989.4, in paragraph (h), second sentence, revise “SAF/MIQ” to read “SAF/IEE”.

§ 989.5 [Amended]

4. In § 989.5, make the following technical corrections:

a. In paragraph (d), revise “SAF/MIQ” to read “SAF/IEE.” Correct “ANGRC/CEV” to read “NGB/A7CV”.

b. In paragraph (d), revise “USAF/ILEB” to read “USAF/A7CI”.

§ 989.13 [Amended]

5. In § 989.13, in paragraph (c), revise “USAF/ILEB” to read “USAF/A7CI”.

§ 989.14 [Amended]

6. In § 989.14, make the following technical corrections:

a. In paragraph (h), revise “HQ USAF/ILEB” to read “HQ USAF/A7CI”.

b. In paragraph (h), revise “SAF/MIQ” to read “SAF/IEE” in the two places it appears.

c. In paragraph (i), revise “HQ USAF/ILEB” to read “HQ USAF/A7CI”.

d. In paragraph (j), revise “HQ USAF/ILEB” to read “HQ USAF/A7CI”.

§ 989.17 [Amended]

7. In § 989.17, revise “HQ USAF/ILEB” to read “HQ USAF/A7CI”.

§ 989.18 [Amended]

8. In Sec. 989.18, paragraph (a), third to last sentence, revise “USAF/ILEV” to read “HQ USAF/A7CI”.

§ 989.19 [Amended]

9. In § 989.19, make the following technical corrections:

a. In paragraph (a), last sentence, revise “USAF/ILEB” to read “HQ USAF/A7CI”.

b. In paragraph (a), revise “AFCEE/EC” to read “AFCEE/TDB” in the last sentence.

c. In paragraph (b), revise “HQ USAF/ILEB” to read “HQ USAF/A7CI” in the three places it appears.

d. In paragraph (c)(2), revise “HQ USAF/ILEB” to read “HQ USAF/A7CI.” in the two places it appears.

e. In paragraph (c)(2), last sentence, revise “SAF/MIQ” to read “SAF/IEE”.

§ 989.20 [Amended]

10. In § 989.20, make the following technical corrections:

a. In paragraph (a), first and second sentences, revise “HQ USAF/ILEB” to read “HQ USAF/A7CI” in the two places it appears.

b. In paragraph (a), first sentence, revise “SAF/MIQ” to read “SAF/IEE”.

§ 989.21 [Amended]

11. In § 989.21, make the following technical corrections:

a. In paragraph (a), first sentence, revise “HQ USAF/ILEB” to read “HQ USAF/A7CI”.

b. In paragraph (a), first sentence, revise “SAF/MIQ” to read “SAF/IEE”.

c. In paragraph (c), last sentence, revise “explain why” to read “explain why not”

§ 989.22 [Amended]

12. In § 989.22, make the following technical corrections:

a. In paragraph (b), second to last sentence, revise “HQ USAF/ILEB” to read “HQ USAF/A7CI”.

b. In paragraph (d), last sentence, revise “HQ USAF/ILEB” to read “HQ USAF/A7CI”.

§ 989.26 [Amended]

13. In § 989.26, paragraph (f), first and second sentences, revise “SAF/MIQ” to read “SAF/IEE” in the two places it appears.

§ 989.29 [Amended]

14. In § 989.29, revise “HQ USAF/ILEB” to read “HQ USAF/A7CI”.

§ 989.32 [Amended]

15. In § 989.32, revise “AFCEE/EC” to read “AFCEE/TDB”.

§ 989.34 [Amended]

16. In § 989.34, make the following technical corrections:

a. In paragraph (a), last sentence, revise “HQ USAF/ILEB” to read “HQ USAF/A7CI”.

b. In paragraph (a), last sentence, revise “SAF/MIQ” to read “SAF/IEE.”

c. In paragraph (b), third sentence, revise “HQ USAF/ILEB” to read “HQ USAF/A7CI.”

d. In paragraph (b), third sentence, revise “SAF/MIQ” to read “SAF/IEE”.

§ 989.36 [Amended]

17. In § 989.36, make the following technical corrections:

a. In first sentence, revise “NEPA” to read “EIAP” at its first occurrence.

b. In first sentence, revise “SAF/MIQ” to read “SAF/IEE”.

§ 989.38 [Amended]

18. In § 989.38, make the following technical corrections:

a. In paragraph (b), revise “HQ USAF/ILEB” to read “HQ USAF/A7CI”.

b. In paragraph (c), revise “HQ USAF/ILEB” to read “HQ USAF/A7CI”.

c. In paragraph (c), revise “AFCEE/EC” to read “AFCEE/TDB”.

d. In paragraph (d), revise “HQ USAF/ILEB” to read “HQ USAF/A7CI” in the four places it appears.

Appendix A to Part 989 [Amended]

19. In Appendix A, make the following technical corrections:

a. In U.S. Government Agency Publications, revise “(DoDD) 4715.1, Environmental Security” to read “DoDD 4715.1E, Environment, Safety, and Occupational Health”.

b. In U.S. Government Agency Publications, revise “DoDD 5000.1, Defense Acquisition” to read “Department of Defense Directive DoDD 5000.1, The Defense Acquisition System”.

c. In Abbreviations and Acronyms, Change acronym definition for “AFCEE” from “Air Force Center for Environmental Excellence” to read “Air Force Center for Engineering and the Environment”.

d. In Abbreviations and Acronyms, revise “AFCEE/EC” to read “AFCEE/TDB”. Change acronym definition from “AFCEE Environmental Conservation and Planning Directorate (AFCEE/EC)” to read “AFCEE Technical Directorate, Built Infrastructure Division (AFCEE/TDB)”.

e. In Abbreviations and Acronyms, revise “AFLSA/JACE” to read “AFLOA/JACE”.

f. In Abbreviations and Acronyms, revise “AFLSA/JAJT” to read “AFLOA/JAJT”.

g. In Abbreviations and Acronyms, revise “HQ USAF/ILE” to read “HQ USAF/A7C”.

h. In Abbreviations and Acronyms, revise “SAF/MI” to read “SAF/IE.” Change acronym definition from “Assistant Secretary of the Air Force for Manpower, Reserve Affairs, Installations, and Environment” to “Assistant Secretary of the Air Force for Installations, Environment & Logistics”.

i. In Abbreviations and Acronyms, revise “SAF/MIQ” to read “SAF/IEE.” Change acronym definition from “Assistant Secretary of the Air Force for Manpower, Reserve Affairs, Installations, and Environment” to “Deputy Assistant Secretary of the Air Force for Environment, Safety and Occupational Health (ESOH)”.

j. In Terms, under “BMPs” revise “40 CFR 1508.22” to read “32 CFR 989.22”.

Appendix B to Part 989 [Amended]

20. In Appendix B, make the following technical corrections:

a. In paragraph A3.1.1, revise “AFLSA/JAJT” to read “AFLOA/JAJT”.

b. In paragraph A3.1.2, revise “AFLSA/JAJT” to read “AFLOA/JAJT”.

Appendix C to Part 989 [Amended]

21. In Appendix C, make the following technical corrections:

a. In paragraph A3.1.3, last sentence, revise “HQ USAF/ILEVP” to read “HQ USAF/A7CI.”

b. In paragraph A3.1.3, last sentence, revise “SAF/MIQ” to read “SAF/IEE”.

c. In paragraph A3.2.2.1, revise “HQ USAF/ILEB” to read “HQ USAF/A7CI”.

d. In paragraph A3.2.3.3. revise “The name and telephone number of a person to contact for more information” to read “The name, address, and telephone number of the Air Force point of contact”.

e. In paragraph A3.5.1., revise “AFLSA/JAJT” to read “AFLOA/JAJT”.

f. In paragraph A3.5.1., revise “military trial judge” to read “hearing officer”.

g. In paragraph A3.5.1., revise “military trial judge” to read “hearing officer”.

h. In paragraph A3.8, third to last sentence, revise “SAF/MIQ” to read “SAF/IEE”.

Bao-Anh Trinh,
Air Force Federal Register Liaison Officer, Department of the Air Force.

[FR Doc. E7-13253 Filed 7-6-07; 8:45 am]

BILLING CODE 5001-05-P